INTERNATIONAL TRADE COMMISSION

[Investigation Nos. 731-TA-1105-1106 (Final)]

Lemon Juice From Argentina and Mexico

AGENCY: United States International Trade Commission.

ACTION: Revised schedule for the subject investigations.

EFFECTIVE DATE: August 27, 2007.

FOR FURTHER INFORMATION CONTACT: Jim McClure (202-205-3191), Office of Investigations, U.S. International Trade Commission, 500 E. Street, SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (http://www.usitc.gov). The public record for these investigations may be viewed on the Commission's electronic docket (EDIS) at http://edis.usitc.gov.

SUPPLEMENTARY INFORMATION: On June 6, 2007, the Commission established a schedule for the conduct of the final phase of the subject investigations (72 FR 31342, June 6, 2007). On August 23, 2007, counsel for petitioner, Sunkist, and counsel for respondent, the Coca-Cola Company, and, on August 24, 2007, counsel for respondent, Argentinian producer/exporter Citrusvil, submitted requests to the Commission that its schedule in these investigations be modified in order to give the Department of Commerce (Commerce) and the parties to these investigations the opportunity to fully consider the proposed Agreements Suspending the Antidumping Duty Investigations of Lemon Juice from Argentina and Mexico. The Commission, therefore, is modifying its schedule in response to these requests.

The Commission's new schedule for the investigations is as follows: Requests to appear at the hearing must be filed with the Secretary to the Commission not later than September 7, 2007; the prehearing conference will be held at the U.S. International Trade Commission Building at 9:30 a.m. on September 13, 2007; the prehearing staff report will be placed in the nonpublic record on September 4, 2007; the deadline for filing prehearing briefs is September 11, 2007; the hearing will be held at the U.S. International Trade Commission Building at 9:30 a.m. on September 18, 2007; the deadline for filing posthearing briefs is September 25, 2007; the Commission will make its final release of information on October 11, 2007; and final party comments are due on October 15, 2007.

For further information concerning these investigations see the Commission's notice cited above and the Commission's Rules of Practice and Procedure, part 201, subparts A through E (19 CFR part 201), and part 207, subparts A and C (19 CFR part 207).

Authority : These investigations are being conducted under authority of title VII of the Tariff Act of 1930; this notice is published pursuant to section 207.21 of the Commission's rules.

By order of the Commission.
Issued: August 28, 2007.
Marilyn R. Abbott,
Secretary to the Commission.

[FR Doc. E7-17270 Filed 8-30-07; 8:45 am]

BILLING CODE 7020-02-P